DEPARTMENT OF COMMERCE

National Oceanic and Atmospheric Administration

RIN 0648-XD204

Reestablishment of the Marine Fisheries Advisory Committee

AGENCY: National Marine Fisheries Service (NMFS), National Oceanic and Atmospheric Administration (NOAA), Commerce.

ACTION: Notice of advisory committee reestablishment.

SUMMARY: Notice is hereby given that the Secretary of Commerce has determined that the reestablishment of the Marine Fisheries Advisory Committee is necessary and in the public interest. Accordingly, the National Marine Fisheries Service has chartered the Marine Fisheries Advisory Committee (MAFAC). The charter for the MAFAC expired on January 18, 2014 while its renewal was in process.

FOR FURTHER INFORMATION CONTACT: Mark Holliday, MAFAC Executive Director; (301) 427-8004; email: Mark.Holliday@noaa.gov.

SUPPLEMENTARY INFORMATION: MAFAC will advise NOAA and Commerce on short- and long-range strategies for rebuilding and managing the sustained use of living marine resources and recovering and protecting endangered and protected marine species to meet the needs of commercial and recreational fisheries, and environmental, State, consumer, academic, tribal, and other national interests. MAFAC members will help identify common ground on controversial matters of policy and science. The Committee's expertise and diversity are not found in any Commerce component, or in any other Federal Advisory Committee.

The MAFAC will function solely as an advisory body and in compliance with provisions of the Federal Advisory Committee Act. Copies of the charter will be filed with the appropriate Committees of the Congress and with the Library of Congress.

Dated: March 28, 2014
Paul Doremus,
Deputy Assistant Administrator for Operations, National Marine Fisheries Service.

[FR Doc. 2014-07377 Filed 4-1-14; 8:45 am]

BILLING CODE 3510-22-P